DEPARTMENT OF TRANSPORTATION

Surface Transportation Board

[Docket No. MCF 21057]

Royal City Charter Coach Lines Ltd.—Acquisition of Control—Quick Coach Lines Ltd. d/b/a Quick Shuttle Service

AGENCY: Surface Transportation Board, DOT.

ACTION: Notice Tentatively Authorizing Finance Transaction.

SUMMARY: On November 18, 2013, Royal City Charter Coach Lines Ltd. (Royal, or Applicant) filed an application under 49 U.S.C. 14303 for approval of its acquisition of control of Quick Coach Lines Ltd. d/b/a Quick Shuttle Service (Quick). The Board is tentatively approving and authorizing the transaction, and, if no opposing comments are timely filed, this notice will be the final Board action. Persons wishing to oppose the application must follow the rules at 49 CFR 1182.5 and 1182.8.

DATES: Comments must be filed by February 3, 2014. Applicants may file a reply by February 18, 2014. If no comments are filed by February 3, 2014, this notice shall be effective on February 4, 2014.

ADDRESSES: Send an original and 10 copies of any comments referring to Docket No. MCF 21057 to: Surface Transportation Board, 395 E Street SW., Washington, DC 20423-0001. In addition, send copies of comments to Applicant's representative: Stephen Flott, Flott & Co. PC, P.O. Box 17655, Arlington, VA 22216-7655.

FOR FURTHER INFORMATION CONTACT: Jonathon Binet, (202) 245-0368. Federal Information Relay Service (FIRS) for the hearing impaired: 1-800-877-8339.

SUPPLEMENTARY INFORMATION: Applicant is a noncarrier holding company based in British Columbia, Canada. Applicant states that it currently controls a group of companies operating approximately 85 motor coaches, primarily in British Columbia and Alberta, Canada, and in Washington State, and employing approximately 160 people. In 2012, these companies generated more than $17 million in gross revenue. Royal currently owns 50% of the stock in Quick, but has no interest in any other federally regulated motor carriers. 461233 BC Ltd. (Seller) currently owns the other 50% of Quick's stock and approached Royal to sell Royal its shares.

Seller is a noncarrier company based in British Columbia. Seller's current ownership of Quick, and its wholly owned subsidiary Quick Coach Lines USA Inc. (Quick USA), represents its only interest in federally regulated motor carriers.

Applicant states that Quick provides charter, scheduled, commuter, and special services to the traveling public in Washington State. Quick holds authority from the Federal Motor Carrier Safety Administration (FMCSA) as a motor carrier of passengers (MC-205116).

Quick USA is a wholly owned subsidiary of Quick. When Royal acquires control of Quick, it will also obtain control of Quick USA. Quick USA is currently inactive and does not provide any motor passenger services. It holds, however, authority from the FMCSA as a motor carrier of passengers (MC-299860).

Under the proposed transaction, Applicant seeks permission to acquire all of Seller's shares of Quick. Royal will then own 100 percent of Quick's shares and 100 percent of the shares of its wholly owned subsidiary, Quick USA. Applicant and Seller have entered into an agreement that is scheduled to close no later than December 1, 2013, subject to Board approval and other conditions.

Under 49 U.S.C. 14303(b), the Board must approve and authorize a transaction that it finds consistent with the public interest, taking into consideration at least: (1) The effect of the proposed transaction on the adequacy of transportation to the public; (2) the total fixed charges that result; and (3) the interest of affected carrier employees. Applicant has submitted information, as required by 49 CFR 1182.2, including the information to demonstrate that the proposed transaction is consistent with the public interest under 49 U.S.C. 14303(b), and a statement that annual aggregate gross operating revenues of the carriers involved exceeded $2 million. See 49 U.S.C. 14303(g).

With respect to the effect of the transaction on the adequacy of transportation to the public, Applicant states that the proposed acquisition would have no adverse impact because the acquisition will not materially alter the service levels, result in any operational changes, or alter the competitive balance of motor passenger carriers in Washington State. Applicant anticipates operating the businesses of Quick and Quick USA in essentially the same manner in which they are currently being conducted. With respect to fixed charges, Applicant anticipates that the proposed transaction would have no adverse effect on total fixed charges. Applicant states that the transaction would not adversely affect the interests of Quick employees. All of the qualified employees would continue their employment following the acquisition.

On the basis of the application, the Board finds that the proposed acquisition is consistent with the public interest and should be tentatively approved and authorized because the proposed transaction does not impact the adequacy of transportation to the public, would have no adverse effect on total fixed charges, and would not adversely affect the interests of Quick employees. If any opposing comments are timely filed, these findings will be deemed vacated, and, unless a final decision can be made on the record as developed, a procedural schedule will be adopted to reconsider the application. See 49 CFR 1182.6(c). If no opposing comments are filed by the expiration of the comment period, this notice will take effect automatically and will be the final Board action.

Board decisions and notices are available on our Web site at “WWW.STB.DOT.GOV”.

This decision will not significantly affect either the quality of the human environment or the conservation of energy resources.

It is ordered:

1. The proposed transaction is approved and authorized, subject to the filing of opposing comments.

2. If opposing comments are timely filed, the findings made in this notice will be deemed vacated.

3. This notice will be effective February 4, 2014, unless opposing comments are filed by February 3, 2014.

4. A copy of this notice will be served on: (1) U.S. Department of Transportation, Federal Motor Carrier Safety Administration, 1200 New Jersey Avenue SE., Washington, DC 20590; (2) the U.S. Department of Justice, Antitrust Division, 10th Street & Pennsylvania Avenue NW., Washington, DC 20530; and (3) the U.S. Department of Transportation, Office of the General Counsel, 1200 New Jersey Avenue SE., Washington, DC 20590.

Decided: December 13, 2013.
By the Board, Chairman Elliott, Vice Chairman Begeman, and Commissioner Mulvey.
Jeffrey Herzig,
Clearance Clerk.

[FR Doc. 2013-30092 Filed 12-17-13; 8:45 am]

BILLING CODE 4915-01-P